DEPARTMENT OF TRANSPORTATION

Federal Aviation Administration

14 CFR Part 39

[Docket No. FAA-2008-1068; Directorate Identifier 2008-NE-33-AD; Amendment 39-15807; AD 2009-04-01]

RIN 2120-AA64

Airworthiness Directives; Wytwornia Sprzetu Komunikacyjnego “PZL-Rzeszow” S.A. PZL-10W Turboshaft Engines

AGENCY: Federal Aviation Administration (FAA), Department of Transportation (DOT).

ACTION: Final rule; request for comments.

SUMMARY: We are adopting a new airworthiness directive (AD) for the products listed above. This AD results from mandatory continuing airworthiness information (MCAI) issued by an aviation authority of another country to identify and correct an unsafe condition on an aviation product. The MCAI describes the unsafe condition as:

The review of manufacturing process and service experience has shown that the ALRP-5 fuel metering pump units released to service between May 2006 and April 2007 can be vulnerable for seizing. This vulnerability is demonstrated by occurrence of aluminum and bronze chips at the filter. This condition, if not corrected might lead to seizing of the pump and engine RPM decrease.

This AD requires actions that are intended to address the unsafe condition described in the MCAI, which could result in low-time pump seizure, loss of engine fuel flow and engine power, possibly leading to an autorotation landing.

DATES: This AD becomes effective March 24, 2009.

We must receive comments on this AD by April 20, 2009.

ADDRESSES: You may send comments by any of the following methods:

• Federal eRulemaking Portal: Go to http://www.regulations.gov and follow the instructions for sending your comments electronically.

• Mail: U.S. Department of Transportation, 1200 New Jersey Avenue, SE., West Building Ground Floor, Room W12-140, Washington, DC 20590-0001.

• Hand Delivery: Deliver to Mail address above between 9 a.m. and 5 p.m., Monday through Friday, except Federal holidays.

• Fax: (202) 493-2251.

Examining the AD Docket

You may examine the AD docket on the Internet at http: //www.regulations.gov; or in person at the Docket Operations office between 9 a.m. and 5 p.m., Monday through Friday, except Federal holidays. The AD docket contains this AD, the regulatory evaluation, any comments received, and other information. The street address for the Docket Operations office (telephone (800) 647-5527) is the same as the Mail address provided in the ADDRESSES section. Comments will be available in the AD docket shortly after receipt.

FOR FURTHER INFORMATION CONTACT: Richard Woldan, Aerospace Engineer, Engine Certification Office, FAA, Engine & Propeller Directorate, 12 New England Executive Park, Burlington, MA 01803; e-mail: richard.woldan@faa.gov; telephone (781) 238-7136; fax (781) 238-7199.

SUPPLEMENTARY INFORMATION:

Discussion

The European Aviation Safety Agency (EASA), which is the Technical Agent for the Member States of the European Community, has issued EASA Airworthiness Directive 2007-0153-E, dated May 25, 2007 (referred to after this as “the MCAI”), to correct an unsafe condition for the specified products. The MCAI states:

The review of manufacturing process and service experience has shown that the ALRP-5 fuel metering pump units released to service between May 2006 and April 2007 can be vulnerable for seizing. This vulnerability is demonstrated by occurrence of aluminum and bronze chips at the filter. This condition, if not corrected might lead to seizing of the pump and engine RPM decrease.

This AD requires initial and repetitive visual inspections of the fine filter in certain serial number ALRP-5 fuel metering pumps for aluminum and bronze chips at the filter, and removal of the pump from service if the filter fails the inspection. You may obtain further information by examining the MCAI in the AD docket.

Differences Between the AD and the MCAI or Service Information

We have reviewed the MCAI and, in general, agree with its substance. But we have found it necessary to use different words from those in the MCAI to ensure the AD is clear for U.S. operators and is enforceable. In making these changes, we do not intend to differ substantively from the information provided in the MCAI.

FAA's Determination and Requirements of This AD

This product has been approved by the aviation authority of Poland, and is approved for operation in the United States. Pursuant to our bilateral agreement with Poland, they have notified us of the unsafe condition described in the MCAI and service information referenced above. We are issuing this AD because we evaluated all the information provided by Poland and determined the unsafe condition exists and is likely to exist or develop on other products of the same type design. This AD requires initial and repetitive visual inspections of the fine filter in certain serial number ALRP-5 fuel metering pumps for aluminum and bronze chips at the filter, and removal of the pump from service if the filter fails the inspection.

FAA's Determination of the Effective Date

Since no domestic operators use this product, notice and opportunity for public comment before issuing this AD are unnecessary. Therefore, we are adopting this regulation immediately.

Comments Invited

This AD is a final rule that involves requirements affecting flight safety, and we did not precede it by notice and opportunity for public comment. We invite you to send any written relevant data, views, or arguments about this AD. Send your comments to an address listed under the ADDRESSES section. Include “Docket No. FAA-2008-1068; Directorate Identifier 2008-NE-33-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact with FAA personnel concerning this AD. Using the search function of the Web site, anyone can find and read the comments in any of our dockets, including, if provided, the name of the individual who sent the comment (or signed the comment on behalf of an association, business, labor union, etc.). You may review the DOT's complete Privacy Act Statement in the Federal Register published on April 11, 2000 (65 FR 19477-78).

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

List of Subjects in 14 CFR Part 39

Air transportation, Aircraft, Aviation safety, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2009-04-01 Wytwornia Sprzetu Komunikacyjnego “PZL-Rzeszow” S.A.: Amendment 39-15807; Docket No. FAA-2008-1068; Directorate Identifier 2008-NE-33-AD.

Effective Date

(a) This airworthiness directive (AD) becomes effective March 24, 2009.

Affected ADs

(b) None.

Applicability

(c) This AD applies to Wytwornia Sprzetu Komunikacyjnego “PZL-Rzeszow” S.A. (WSK) PZL-10W turboshaft engines, with the following serial numbers of ALRP-5 fuel metering pumps installed. These engines are installed on, but not limited to, PZL Swidnik W3/W3A helicopters.

Affected ALRP-5 Fuel Metering Pump Serial Numbers
PB 99040002 | PB 94030003 | PA 07927B
PB 98050002 | PB 93120004 | PB 96080005
PA 058701B | PA 05913B | PB 07010001
PB 99020003 | PB 95020005 | PB 07010002
PB 97010002 | PB 97030004 | PA 04891B
PA 02914B | PB 97060001 | PA 11892B
PA 11881B | PB 99040001 | PA 10903B
PB 94020003 | PB 95050003 | PA 02915B
PB 93050006 | PB 94110002 | PA 02903B
PA 06918B | PB 93080005 | PA 06891B
PA 07912B | PB 93120002 | PB 97050002
PB 02935 | PB 97070003 | PA 07882B

Reason

(d) European Aviation Safety Agency (EASA) AD No. 2007-0153-E, dated May 25, 2007, states:

The review of manufacturing process and service experience has shown that the ALRP-5 fuel metering pump units released to service between May 2006 and April 2007 can be vulnerable for seizing. This vulnerability is demonstrated by occurrence of aluminum and bronze chips at the filter. This condition, if not corrected might lead to seizing of the pump and engine RPM decrease.

We are issuing this AD to prevent low-time pump seizure, loss of engine fuel flow and engine power, possibly leading to an autorotation landing.

Actions and Compliance

(e) Unless already done, do the following visual inspections using paragraph (f) of this AD.

Initial Inspection

(1) Visually inspect the fuel metering pump fine filter before further flight.

Fuel Metering Pumps With More Than 30 Hours Time-In-Service

(2) For fuel metering pumps with more than 30 hours time-in-service (TIS) on the effective date of this AD, re-inspect the filter within 5 hours TIS after reaching 50 hours TIS since the initial inspection specified in paragraph (e)(1) of this AD.

Fuel Metering Pumps With 30 or Fewer Hours Time-In-Service

(3) For fuel metering pumps with 30 or fewer hours TIS on the effective date of this AD, re-inspect the filter after each flight day, not to exceed 4 hours TIS between each inspection, until reaching 30 hours TIS.

(4) Re-inspect the filter within 5 hours TIS after reaching 50 hours TIS since the last inspection specified in paragraph (e)(3) of this AD.

If Filter Fails Inspection

(5) If the filter fails any inspection, remove the fuel metering pump from service and install a serviceable fuel metering pump.

(f) Visually inspect the pump fine filter as follows:

(1) Remove the fine filter from the ALRP-5 pump and visually inspect it. Information on removing the fine filter can be found in PZL-10W Maintenance Manual, Document No. 19.0.400.

(2) If there is no evidence of any metal chips on the filter, wash and reinstall the filter, and vent the fuel system.

(3) If metal chips are found on the filter, evaluate the chips as follows:

(i) Aluminum or bronze chips are not allowed.

(ii) Metallic particles seen as reflection of light are allowable in maximum quantity of 10 per filter segment (row) but not more than 30 for the entire filter.

Definition

(g) For the purpose of this AD, a serviceable fuel metering pump is one that does not have a serial number listed in this AD, is one that has successfully completed the inspections required by this AD, or is one listed in this AD that has been repaired since being listed in WSK Obligatory Bulletin No. E-19W123/DOA/2007, dated May 2007.

Alternative Methods of Compliance (AMOCs)

(h) The Manager, Engine Certification Office, FAA, has the authority to approve AMOCs for this AD, if requested using the procedures found in 14 CFR 39.19.

Related Information

(i) Refer to MCAI EASA Airworthiness Directive 2007-0153-E, dated May 25, 2007, for related information.

(j) WSK Obligatory Bulletin No. E-19W123/DOA/2007, dated May 2007, and PZL-10W Maintenance Manual, Document No. 19.0.400, pertain to the subject of this AD. Contact WSK “PZL-Rzeszow” S.A., ul. Hetmanska 120, 35-078 Rzeszow, Poland, telephone: 011 48 17 854-62-00 or 854-61-00, for a copy of this service information.

(k) Contact Richard Woldan, Aerospace Engineer, Engine Certification Office, FAA, Engine & Propeller Directorate, 12 New England Executive Park, Burlington, MA 01803; e-mail: richard.woldan@faa.gov; telephone (781) 238-7136; fax (781) 238-7199, for more information about this AD.

Issued in Burlington, Massachusetts, on February 2, 2009.
Peter A. White,
Assistant Manager, Engine and Propeller Directorate, Aircraft Certification Service.

[FR Doc. E9-3044 Filed 2-13-09; 8:45 am]

BILLING CODE 4910-13-P